DEPARTMENT OF TRANSPORTATION

Federal Aviation Administration

14 CFR Part 71

[Airspace Docket No. 02-AAL-7]

Proposed Establishment of Class E Airspace; Wasilla, AK

AGENCY: Federal Aviation Administration (FAA), DOT.

ACTION: Notice of proposed rulemaking.

SUMMARY: This action proposes to establish new Class E airspace at Wasilla, AK. A Standard Instrument Approach Procedure (SIAP) is being established for the Wasilla Airport. There is no existing Class E airspace associated with the Wasilla Airport. Adoption of this proposal would result in the addition of Class E airspace extending upward from 700 feet above the surface at Wasilla, AK.

DATES: Comments must be received on or before November 21, 2002.

ADDRESSES: Send comments on the proposal in triplicate to: Manager, Operations Branch, AAL-530, Docket No. 02-AAL-7, Federal Aviation Administration, 222 West 7th Avenue, Box 14, Anchorage, AK 99513-7587.

The official docket may be examined in the Office of the Regional Counsel for the Alaskan Region at the same address.

An informal docket may also be examined during normal business hours in the Office of the Manager, Operations Branch, Air Traffic Division, at the address shown above and on the Internet at Alaskan Region's homepage at http://www.alaska.faa.gov/at or at address http://162.58.28.41/at.

FOR FURTHER INFORMATION CONTACT: Derril Bergt, AAL-538, Federal Aviation Administration, 222 West 7th Avenue, Box 14, Anchorage, AK 99513-7587; telephone number (907) 271-2796; fax: (907) 271-2850; e-mail: Derril.CTR.Bergt@faa.gov. Internet address: http://www.alaska.faa.gov/at or at address http://162.58.28.41/at.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify the airspace docket number and be submitted in triplicate to the address listed above. Commenters wishing the FAA to acknowledge receipt of their comments on this notice must submit with those comments a self-addressed, stamped postcard on which the following statement is made: “Comments to Airspace Docket No. 02-AAL-7.” The postcard will be date/time stamped and returned to the commenter. All communications received on or before the specified closing date for comments will be considered before taking action on the proposed rule. The proposal contained in this notice may be changed in light of comments received. All comments submitted will be available for examination in the Operations Branch, Air Traffic Division, Federal Aviation Administration, 222 West 7th Avenue, Box 14, Anchorage, AK, both before and after the closing date for comments. A report summarizing each substantive public contact with FAA personnel concerned with this rulemaking will be filed in the docket.

Availability of Notice of Proposed Rulemaking's (NPRM's)

An electronic copy of this document may be downloaded, using a modem and suitable communications software, from the FAA regulations section of the Fedworld electronic bulletin board service (telephone: 703-321-3339) or the Federal Register's electronic bulletin board service (telephone: 202-512-1661).

Internet users may reach the Federal Register's web page for access to recently published rulemaking documents at http://www.access.gpo.gov/su_docs/aces/aces140.html.

Any person may obtain a copy of this NPRM by submitting a request to the Operations Branch, AAL-530, Federal Aviation Administration, 222 West 7th Avenue, Box 14, Anchorage, AK 99513-7587. Communications must identify the notice number of this NPRM. Persons interested in being placed on a mailing list for future NPRM's should contact the individual(s) identified in the FOR FURTHER INFORMATION CONTACT section.

The Proposal

The FAA proposes to amend 14 CFR part 71 by adding Class E airspace at Wasilla, AK. The intended effect of this proposal is to establish that Class E controlled airspace, from 700 feet above the surface, needed to enable IFR operations at Wasilla, AK, to be contained within controlled airspace.

The FAA Instrument Flight Procedures Production and Maintenance Branch (AVN-130) has developed a new SIAP for the Wasilla Airport. The proposed approach from AVN-130 is designated the Area Navigation (Goblal Positioning System) (RNAV GPS) Runway 3, original. It allows Category A aircraft (aircraft approach speed less than 91 knots) and Category B aircraft (aircraft approach speed of 91 knots or more but less than 121 knots) to descend under instrument flight rules (IFR) down to approach minimums of 500 feet above ground level with visibility as low as 1 mile. This SIAP proposal, because of the low approach minimums, would necessitate the establishment of controlled airspace down to the surface, i.e., a surface area, due to the high density of traffic operating to and from the many public and private use airports in close proximity to the Wasilla Airport. A surface area surrounding the Wasilla Airport would require all VFR pilots operating within that surface area to comply with higher visibility and cloud clearance minimums, than exist with the current Class G airspace, and to acquire a Special Visual Flight Rules (SVFR) clearance when the weather is below basic VFR minimums (1,000 ft. ceiling and 3 miles visibility).

It was decided by the FAA Alaskan Region, contrary to the AVN-130 proposal, to propose a slightly different SIAP, which would set the approach minimums for the new RNAV (GPS) Runway 3 SIAP at 1,000 feet above ground level with a visibility requirement of 1¼ miles for Category A aircraft and 1½ miles for Category B aircraft. This proposal would ensure that aircraft executing the new RNAV (GPS) Runway 3 approach remain within controlled airspace while executing this SIAP in IFR conditions until 1,000 feet above the surface, at which time they would proceed visually to the airport. This action would not require establishment of a surface area at this time. Therefore, if adopted, this proposal would establish controlled airspace upward from 700 feet above the surface to allow aircraft executing the SIAP to descend to approach minimums (1,000 ft. altitude and 1¼ or 1½ miles visibility) while remaining within controlled airspace.

New airspace extending upward from 700 feet above the surface within a 6.5 mile radius of the Wasilla Airport, excluding that airspace from 700 feet above the surface already established for the Big Lake Airport, would be created by this action. That airspace extending upward from 1,200 feet above the surface will remain the same if this action is taken.

The area would be depicted on aeronautical charts for pilot reference. The coordinates for this airspace docket are based on North American Datum 83. The Class E airspace areas designated as 700/1200 foot transition areas are published in paragraph 6005 in FAA Order 7400.9K, Airspace Designations and Reporting Points, dated August 30, 2002, and effective September 16, 2002, which is incorporated by reference in 14 CFR 71.1. The Class E airspace designations listed in this document would be published subsequently in the Order.

The FAA has determined that this proposed regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

The Proposed Amendment

In consideration of the foregoing, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9K, Airspace Designations and Reporting Points, dated August 30, 2002, and effective September 16, 2002, is to be amended as follows:

* * * * *

Paragraph 6005 Class E airspace extending upward from 700 feet or more above the surface of the earth.

* * * * *

AAL AK E5 Wasilla, AK [New]

Wasilla Airport, AK

(Lat. 61°34′08″ N, long. 149°32′25″ W.)

That airspace extending upward from 700 feet above the surface within a 6.5-mile radius of the Wasilla Airport excluding Big Lake Class E Airspace.

* * * * *

Issued in Anchorage, AK, on September 24, 2002.
Stephen P. Creamer,
Assistant Manager, Air Traffic Division, Alaskan Region.

[FR Doc. 02-25311 Filed 10-4-02; 8:45 am]

BILLING CODE 4910-13-P